DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the U.S. Strategic Forces Strategic Advisory Board (“the Board”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR § 102-3.50(d).

The Board is a discretionary Federal advisory committee that shall provide independent advice and recommendations to the Chairman of the Joint Chiefs of Staff and the Commander, U.S. Strategic Command, on matters regarding enhancements in U.S. Strategic Command's mission area responsibilities.

The DoD, through the Chairman of the Joint Chiefs of Staff, shall provide support as deemed necessary for the Board's performance, and shall ensure compliance with the requirements of the FACA, the Government in the Sunshine Act of 1976 (5 U.S.C. 552b, as amended) (“the Sunshine Act”), governing Federal statutes and regulations, and governing DoD policies and procedures.

The Group shall be comprised of not more than 20 members who are eminent authorities in the fields of strategic policy formulation; nuclear weapon design; national command, control, communications, intelligence, and information operations; or other important aspects of the Nation's strategic forces.

The Secretary of Defense shall select the Group's Chair from among the membership approved by the Secretary of Defense or the Deputy Secretary of Defense. All Board member appointments must be renewed by the Secretary or Deputy Secretary of Defense on an annual basis.

Board members appointed by the Secretary of Defense or the Deputy Secretary of Defense, who are not full-time or permanent part-time federal employees, shall be appointed as experts and consultants, pursuant to 5 U.S.C. 3109, to serve as special government employee (SGE) members. Board members appointed by the Secretary of Defense, who are full-time or permanent part-time Federal employees, shall serve as regular government employee (RGE) members. Board members shall serve a term of service of one-to-four years on the Board. No member may serve more than two consecutive terms of service without the Secretary or Deputy Secretary of Defense approval. This same term of service limitation also applies to any DoD authorized subcommittees.

With the exception of reimbursement for official Board-related travel and per diem, Board members shall serve without compensation.

DoD, when necessary and consistent with the Board's mission and DoD policies and procedures, may establish subcommittees, task forces, or working groups to support the Board. Establishment of subcommittees will be based upon a written determination, to include terms of reference, by the Secretary of Defense, the Deputy Secretary of Defense, or the Chairman of the Joint Chiefs of Staff, as the DoD Sponsor.

Such subcommittees shall not work independently of the Board and shall report all of their recommendations and advice solely to the Board for full and open deliberation and discussion. Subcommittees, task forces, or working groups have no authority to make decisions and recommendations, verbally or in writing, on behalf of the Board. No subcommittee or any of its members can update or report, verbally or in writing, on behalf of the Board, directly to the DoD or any Federal officer or employee.

The Secretary of Defense or the Deputy Secretary of Defense will appoint subcommittee members to a term of service of one-to-four years, even if the member in question is already a member of the Board. Subcommittee members shall not serve more than two consecutive terms of service unless authorized by the Secretary of Defense or the Deputy Secretary of Defense. Subcommittee members, if not full-time or permanent part-time Federal employees, will be appointed as experts and consultants, pursuant to 5 U.S.C. § 3109, to serve as SGE members, whose appointments must be renewed on an annual basis. Subcommittee members appointed by the Secretary of Defense, who are full-time or permanent part-time Federal employees, shall serve as RGE members. With the exception of reimbursement of official travel and per diem related to the Board or its subcommittees, subcommittee members shall serve without compensation.

All subcommittees operate under the provisions of FACA, the Sunshine Act, governing Federal statutes and regulations, and established DoD policies and procedures.

The estimated number of Board meetings is two per year.

The Board's Designated Federal Officer (DFO), pursuant to DoD policy, shall be a full-time or permanent part-time DoD employee, and shall be appointed in accordance with established DoD policies and procedures.

In addition, the DFO is required to be in attendance at all committee and subcommittee meetings for the entire duration of each and every meeting. However, in the absence of the Committee's DFO, an Alternate DFO, duly appointed to the Committee according to the DoD policies and procedures, shall attend the entire duration of the Committee or subcommittee meeting. The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to U.S. Strategic Forces Strategic Advisory Board membership about the Board's mission and functions. Written statements may be submitted at any time or in response to the stated agenda of planned meeting of U.S. Strategic Forces Strategic Advisory Board.

All written statements shall be submitted to the DFO for the U.S. Strategic Forces Strategic Advisory Board, and this individual will ensure that the written statements are provided to the membership for their consideration. Contact information for the U.S. Strategic Forces Strategic Advisory Board DFO can be obtained from the GSA's FACA Database— http://www.facadatabase.gov/.

The DFO, pursuant to 41 CFR 102-3.150, will announce planned meetings of the U.S. Strategic Forces Strategic Advisory Board. The DFO, at that time, may provide additional guidance on the submission of written statements that are in response to the stated agenda for the planned meeting in question.

Dated: May 30, 2014.
Aaron Siegel,
Alternate OSD Federal Register, Liaison Officer, Department of Defense.

[FR Doc. 2014-12997 Filed 6-4-14; 8:45 am]

BILLING CODE 5001-06-P